DEPARTMENT OF EDUCATION

Privacy Act of 1974; System of Records—Impact Evaluation of Upward Bound's Increased Focus on Higher-Risk Students

AGENCY: Institute of Education Sciences, Department of Education.

ACTION: Notice of a new system of records.

SUMMARY: In accordance with the Privacy Act of 1974, as amended, (Privacy Act) the Department of Education (Department) publishes this notice of a new system of records entitled “Impact Evaluation of Upward Bound's Increased Focus on Higher-Risk Students” (18-13-17). The National Center for Education Evaluation and Regional Assistance at the Department's Institute of Education Sciences (IES) commissioned this evaluation. It will be conducted under a contract that IES awarded in September 2006. IES has been collaborating with the Department's Office of Postsecondary Education (OPE) to coordinate the study of the impacts of the Upward Bound program on higher-risk students and students as a whole.

The study will address the following questions:

(1) What are the impacts of Upward Bound on student outcomes—including course taking, grades received, test scores, retention in high school, college preparation services received, and college and career expectations—both overall and for higher-risk students?

(2) Does the impact of Upward Bound vary according to grantee practices and characteristics, such as the ratio of higher-risk students to total students served by the grantee?

(3) Does there appear to be a relationship between program impacts and control group students' receipt of similar services, such as tutoring, mentoring, after-school and summer enrichment programs, and college application and financial aid assistance?

The system will contain information about approximately 3,600 students applying for admission at approximately 90 Upward Bound grantees for the 2007-2008 academic year, of which approximately 1,800 will have been offered admission to Upward Bound and 1,800 will serve as a control group for the purposes of this evaluation. These students will be in either 9th or 10th grade during the 2007-2008 academic year. The Upward Bound grantees included in the evaluation will be a sample of all Upward Bound grantees. The system of records will include information about these sampled students, including their names, addresses, demographic information such as race/ethnicity, gender, age, and educational background, attitudes toward school, and educational aspirations.

DATES: The Department seeks comment on the new system of records described in this notice, in accordance with the requirements of the Privacy Act. We must receive your comments on the proposed routine use for the system of records referenced in this notice on or before July 16, 2007.

The Department filed a report describing the new system of records covered by this notice with the Chair of the Senate Committee on Homeland Security and Governmental Affairs, the Chair of the House Committee on Oversight and Government Reform, and the Administrator of the Office of Information and Regulatory Affairs, Office of Management and Budget (OMB) on June 12, 2007. This system of records will become effective at the later date of—(1) The expiration of the 40-day period for OMB review on July 22, 2007, unless OMB waives 10 of the 40-day review period for compelling reasons shown by the Department or (2) July 16, 2007 unless the system of records needs to be changed as a result of public comment or OMB review.

ADDRESSES: Address all comments about the proposed routine use to Dr. Ricky Takai, Director, Evaluation Division, National Center for Education Evaluation and Regional Assistance, Institute of Education Sciences, U.S. Department of Education, 555 New Jersey Avenue, NW., room 502D, Washington, DC 20208-0002. Telephone: (202) 208-7083. If you prefer to send comments through the Internet, use the following address: comments@ed.gov

You must include the term “Impact Evaluation of Upward Bound's Increased Focus on Higher-Risk Students” in the subject line of the electronic message.

During and after the comment period, you may inspect all comments about this notice in room 502D, 555 New Jersey Avenue, NW., Washington, DC, between the hours of 8 a.m. and 4:30 p.m., Eastern time, Monday through Friday of each week except Federal holidays.

Assistance to Individuals With Disabilities in Reviewing the Rulemaking Record

On request, we will supply an appropriate aid to an individual with a disability who needs assistance to review the comments or other documents in the public rulemaking record for this notice. If you want to schedule an appointment for this type of aid, please contact the person listed under FOR FURTHER INFORMATION CONTACT.

FOR FURTHER INFORMATION CONTACT: Dr. Ricky Takai. Telephone: (202) 208-7083. If you use a telecommunications device for the deaf (TDD), you may call the Federal Relay Service (FRS) at 1-800-877-8339.

Individuals with disabilities may obtain this document in an alternative format (e.g., Braille, large print, audiotape, or computer diskette) on request to the contact person listed in this section.

SUPPLEMENTARY INFORMATION:

Introduction

The Privacy Act, 5 U.S.C. 552a, requires the Department to publish in the Federal Register this notice of a new system of records maintained by the Department. The Department's regulations implementing the Privacy Act are contained in the Code of Federal Regulations (CFR) in 34 CFR part 5b.

The Privacy Act applies to information about individuals that contain individually identifiable information and that is retrieved by a unique identifier associated with each individual, such as a name or social security number. The information about each individual is called a “record,” and the system, whether manual or computer-based, is called a “system of records.” The Privacy Act requires each agency to publish notices of systems of records in the Federal Register and to prepare reports to OMB and Congress whenever the agency publishes a new system of records.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 12, 2007.
Grover Whitehurst,
Director, Institute of Education Sciences.

For the reasons discussed in the preamble, the Director of the Institute of Education Sciences, U.S. Department of Education, publishes a notice of a new system of records to read as follows:

18-13-17

SYSTEM NAME:

Impact Evaluation of Upward Bound's Increased Focus on Higher-Risk Students.

SECURITY CLASSIFICATION:

None.

SYSTEM LOCATION:

(1) Evaluation Division, National Center for Education Evaluation and Regional Assistance, Institute of Education Sciences (IES), U.S. Department of Education, 555 New Jersey Avenue, NW., room 500J, Washington, DC 20208-0002.

(2) Abt Associates, Inc., 55 Wheeler Street, Cambridge, MA 02138-1168, and 4550 Montgomery Avenue, Suite 800 North, Bethesda, MD 20814-3343.

(3) The Urban Institute, 2100 M Street, NW., Washington, DC 20037-1264.

(4) Berkeley Policy Associates, 440 Grand Avenue, Suite 500, Oakland, CA 94610-5012.

Categories Of Individuals Covered By The System:

The system will contain information about approximately 3,600 students applying for admission at approximately 90 Upward Bound grantees for the 2007-2008 academic year, of which approximately 1,800 will have been offered admission to Upward Bound and 1,800 will serve as a control group for the purposes of this evaluation. These students will be in either 9th or 10th grade during the 2007-2008 academic year. The Upward Bound grantees included in the evaluation will be a sample of all Upward Bound grantees.

CATEGORIES OF RECORDS IN THE SYSTEM:

The system of records will include information about sampled students, including their names, addresses, demographic information such as race/ethnicity, gender, age, and educational background, attitudes toward school, and educational aspirations.

AUTHORITY FOR MAINTENANCE OF THE SYSTEM:

This evaluation is authorized under: (1) Section 402H of the Higher Education Act of 1965, as amended (HEA), 20 U.S.C. 1070a-18; and (2) sections 171(b) and 173 of the Education Sciences Reform Act of 2002 (ESRA), 20 U.S.C. 9561(b) and 9563. Section 402H of the HEA explicitly authorizes the Secretary of Education to enter into contracts with organizations to evaluate the effectiveness of Upward Bound and other Federal TRIO programs.

PURPOSE(S):

The information in this system is used for the following purpose: To study, as authorized by section 402H of the Higher Education Act of 1965, as amended (HEA), 20 U.S.C. 1070a-18, the impacts of Upward Bound on eligible students' preparation for, and success in, postsecondary education. In particular, this system is necessary to provide information for analyses of the impacts of the Upward Bound programs on higher-risk students as well as on other eligible students. The system is also needed for analyses of variations in impacts on students according to the characteristics of Upward Bound projects and control group students' access to, and receipt of, services similar to those offered through Upward Bound.

ROUTINE USES OF RECORDS MAINTAINED IN THE SYSTEM, INCLUDING CATEGORIES OF USERS AND THE PURPOSES OF SUCH USES:

The Department of Education (Department) may disclose information contained in a record in this system of records under the routine use listed in this system of records without the consent of the individual if the disclosure is compatible with the purposes for which the record was collected. These disclosures may be made on a case-by-case basis or, if the Department has complied with the computer matching requirements of the Privacy Act of 1974, as amended (Privacy Act), under a computer matching agreement. Any disclosure of individually identifiable information from a record in this system must also comply with the requirements of section 183 of the ESRA (20 U.S.C. 9573) providing for confidentiality standards that apply to all collections, reporting and publication of data by IES.

Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

DISCLOSURE TO CONSUMER REPORTING AGENCIES:

Not applicable to this system notice.

POLICIES AND PRACTICES FOR STORING, RETRIEVING, ACCESSING, RETAINING, AND DISPOSING OF RECORDS IN THE SYSTEM:

STORAGE:

The Department maintains records on CD-ROM, and the contractor and subcontractors maintain data for this system on computers and in hard copy.

RETRIEVABILITY:

Records in this system are indexed by a number assigned to each individual that is cross referenced by the individual's name on a separate list.

SAFEGUARDS:

All physical access to the Department's site, to the sites of the Department's contractor, and to the sites of the subcontractors where this system of records is maintained, will be controlled and monitored by security personnel. The computer system employed by the Department offers a high degree of resistance to tampering and circumvention. This security system limits data access to Department and contract staff on a “need to know” basis, and controls individual users' ability to access and alter records within the system.

The contractor selected for this evaluation has been required to establish similar sets of procedures at its sites and at subcontractor sites to ensure confidentiality of data. Their systems will be required to provide reasonable assurance that information identifying individuals is in files physically separated from other research data. The contractor and subcontractors are required to maintain security of the complete set of all master data files and documentation. Access to individually identifiable data will be strictly controlled. At each site all data will be kept in locked file cabinets during nonworking hours, and work on hardcopy data will take place in a single room, except for data entry. Physical security of electronic data will also be maintained. Security features that protect project data include password-protected accounts that authorize users to use the contractor's and subcontractors' information systems but only to access specific network directories and network software; user rights and directory and file attributes that limit those who can use particular directories and files and determine how they can use them; and, additional security features that the network administrators establish for projects as needed. The contractor and subcontractor employees who “maintain” (collect, maintain, use, or disseminate) data in this system shall comply with the requirements of the confidentiality standards in section 183 of the ESRA (20 U.S.C. 9573).

In safeguarding personally identifiable information (PII), the contractor and its subcontractors also are subject to the Department's requirements contained in the Department of Education's Handbook for the Protection of Sensitive But Unclassified Information, OCIO-15, and the Department's policy that the transmission of sensitive but unclassified information, including PII, through an e-mail requires that the contents be password protected in a ZIP file.

RETENTION AND DISPOSAL:

Records are maintained and disposed of in accordance with the Department's Records Disposition Schedules (ED/RDS, Part 3, Item 2b and Part 3, Item 5a).

SYSTEM MANAGER AND ADDRESS:

Director, Evaluation Division, National Center for Education Evaluation and Regional Assistance, Institute of Education Sciences, U.S. Department of Education, 555 New Jersey Avenue, NW., room 502D, Washington, DC 20208-0002.

NOTIFICATION PROCEDURE:

If you wish to determine whether a record exists regarding you in the system of records, contact the systems manager. Your request must meet the requirements of regulations at 34 CFR 5b.5, including proof of identity.

RECORD ACCESS PROCEDURES:

If you wish to gain access to your record in the system of records, contact the system manager. Your request must meet the requirements of regulations at 34 CFR 5b.5, including proof of identity.

CONTESTING RECORD PROCEDURES:

If you wish to contest the content of a record regarding you in the system of records, contact the system manager. Your request must meet the requirements of the regulations at 34 CFR 5b.7, including proof of identity.

RECORD SOURCE CATEGORIES:

This system will consist of records obtained on eligible students applying to Upward Bound projects at approximately 90 host institutions. The records will consist of parental consent and student consent forms, responses from a baseline survey of students, and information provided by Upward Bound projects on each student. At a later point in time, school records (from school, district, or state databases) and College Board and ACT records will be merged onto the system of records, as will responses from a survey of Upward Bound project coordinators and a follow-up survey of the students. Records in this system of records will be matched with other data solely for research purposes, to study the impacts of Upward Bound on students' preparation for college. The specific matched data will NOT be used to make decisions concerning the rights, benefits, or privileges of the students who participate in this study. After students turn 18 and give their own consent to participate in the study, additional data merges from Federal Student Aid files, National Student Clearing House data, school records, College Board and ACT records, and additional follow-up surveys of students may occur, again solely for research purposes, to study the impacts of Upward Bound on students' postsecondary outcomes. The individual identifiers that would be used to merge the different sources of data would be removed from the data files before the files are used for data analysis.

EXEMPTIONS CLAIMED FOR THE SYSTEM:

None.

[FR Doc. E7-11599 Filed 6-14-07; 8:45 am]

BILLING CODE 4000-01-P